DEPARTMENT OF TRANSPORTATION

Federal Aviation Administration

14 CFR Part 39

[Docket No. 2001-NM-359-AD]

RIN 2120-AA64

Airworthiness Directives; McDonnell Douglas Model DC-10-10, DC-10-10F, DC-10-15, DC-10-30, DC-10-30F (KC-10A and KDC-10), DC-10-40, DC-10-40F, MD-10-10F, MD-10-30F, MD-11, and MD-11F Airplanes

AGENCY: Federal Aviation Administration, DOT.

ACTION: Notice of proposed rulemaking (NPRM).

SUMMARY: This document proposes the adoption of a new airworthiness directive (AD) that is applicable to certain McDonnell Douglas Model DC-10-10, DC-10-10F, DC-10-15, DC-10-30, DC-10-30F (KC-10A and KDC-10), DC-10-40, DC-10-40F, MD-10-10F, MD-10-30F, MD-11, and MD-11F airplanes. This proposal would require repetitive operation of the exterior emergency door handle of the forward passenger door to determine if binding exists in the exterior emergency control handle mechanism, and corrective action, if necessary. This action is necessary to prevent the failure of the exterior emergency control handle mechanism of the forward passenger door, which could delay an emergency evacuation. This action is intended to address the identified unsafe condition.

DATES: Comments must be received by December 29, 2003.

ADDRESSES: Submit comments in triplicate to the Federal Aviation Administration (FAA), Transport Airplane Directorate, ANM-114, Attention: Rules Docket No. 2001-NM-359-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-359-AD” in the subject line and need not be submitted in triplicate. Comments sent via the Internet as attached electronic files must be formatted in Microsoft Word 97 or 2000 or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Ken Sujishi, Aerospace Engineer, Systems and Equipment Branch, ANM-130L, FAA, Los Angeles Aircraft Certification Office, 3960 Paramount Boulevard, Lakewood, California 90712-4137; telephone (562) 627-5353; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-359-AD.” The postcard will be date stamped and returned to the commenter.

Availability of NPRMs

Any person may obtain a copy of this NPRM by submitting a request to the FAA, Transport Airplane Directorate, ANM-114, Attention: Rules Docket No. 2001-NM-359-AD, 1601 Lind Avenue, SW., Renton, Washington 98055-4056.

Discussion

The FAA has received a report indicating that the exterior emergency function of one of the passenger doors was inoperative on a McDonnell Douglas Model MD-11 airplane. The exterior emergency door handle would not move and activate the emergency function of the forward passenger door. The cause was revealed to be six corroded bearings that seized in the exterior door handle mechanism. This condition, if not corrected, could result in the failure of the exterior emergency control handle mechanism of the forward passenger door, which could delay an emergency evacuation.

Similar Models

The subject area on certain McDonnell Douglas Model DC-10-10, DC-10-10F, DC-10-15, DC-10-30, DC-10-30F (KC-10A and KDC-10), DC-10-40, DC-10-40F, MD-10-10F, MD-10-30F, and MD-11F airplanes is almost identical to that on the affected Model MD-11 airplanes. Therefore, all of these models may be subject to the same unsafe condition.

Other Related Rulemaking

The FAA is aware of a similar unsafe condition on the mid, overwing, and aft service doors on certain McDonnell Douglas Model DC-10-10, DC-10-10F, DC-10-15, DC-10-30, DC-10-30F (KC-10A and KDC-10), DC-10-40, DC-10-40F, MD-10-10F, MD-10-30F, MD-11 and MD-11F airplanes. We may consider future rulemaking actions to address the identified unsafe conditions.

Explanation of Relevant Service Information

The FAA has reviewed and approved McDonnell Douglas Service Bulletin MD11-52-046, Revision 02, dated October 8, 2002 (for Model MD-11 and MD-11F airplanes); and McDonnell Douglas Service Bulletin DC10-52-221, Revision 01, dated May 6, 2002 (for Model DC-10-10, DC-10-10F, DC-10-15, DC-10-30, DC-10-30F (KC-10A and KDC-10), DC-10-40, DC-10-40F, MD-10-10F, and MD-10-30F airplanes). Both service bulletins describe procedures for repetitive operation of the exterior emergency door handle of the forward passenger door to determine if binding exists in the exterior emergency control handle mechanism, and corrective action, if necessary. The corrective action is replacing the six bearings in the exterior emergency control handle mechanism of the forward passenger door with bearings made from corrosion resistant materials. Accomplishment of the actions specified in the service bulletins is intended to adequately address the identified unsafe condition.

Explanation of Requirements of Proposed Rule

Since an unsafe condition has been identified that is likely to exist or develop on other products of this same type design, the proposed AD would require accomplishment of the actions specified in the service bulletins described previously, except as discussed below.

Differences Between Proposed Rule and Service Bulletins

Operators should note that, although the service bulletins include a procedure to replace the lower torque shaft bearings, this proposed AD does not mandate such replacement. Replacement of the lower torque shaft bearings does not address the identified unsafe condition of this AD.

Operators should also note that, although the service bulletins would require the replacement of seven bearings in the exterior emergency control handle mechanism, this proposed AD would require the replacement of only six bearings. The manufacturer has informed the FAA that a typographical error was made in the service bulletin, and that there are only six bearings that need to be replaced in the exterior emergency control handle mechanism. The manufacturer is planning to issue a new revision of the service bulletins to indicate this change.

Cost Impact

There are approximately 604 airplanes of the affected design in the worldwide fleet. The FAA estimates that 396 airplanes of U.S. registry would be affected by this proposed AD, that it would take approximately 1 work hour per airplane to accomplish the proposed repetitive operation of the exterior emergency door handle of the forward passenger door, and that the average labor rate is $65 per work hour. Based on these figures, the cost impact of the proposed AD on U.S. operators is estimated to be $25,740, or $65 per airplane, per operation.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2001-NM-359-AD.

Applicability: Model MD-11 and MD-11F airplanes; as listed in Boeing Service Bulletin MD11-52-046, Revision 02, dated October 8, 2002; and Model DC-10-10, DC-10-10F, DC-10-15, DC-10-30, DC-10-30F (KC-10A and KDC-10), DC-10-40, DC-10-40F, MD-10-10F, and MD-10-30F airplanes; as listed in Boeing Service Bulletin DC10-52-221, Revision 01, dated May 6, 2002; certificated in any category.

Compliance: Required as indicated, unless accomplished previously.

To prevent the failure of the exterior emergency control handle mechanism of the forward passenger door, which could delay an emergency evacuation, accomplish the following:

Note 1: Where there are differences between the referenced service bulletins and the AD, the AD prevails.

Initial Operation

(a) Within 6,000 flight hours or 18 months after the effective date of this AD, whichever occurs later: Operate the exterior emergency door handle of the forward passenger door to determine if binding exists in the exterior emergency control handle mechanism, in accordance with the Accomplishment Instructions of Boeing Service Bulletin MD11-52-046, Revision 02, dated October 8, 2002 (for Model MD-11 and MD-11F airplanes); or Boeing Service Bulletin DC10-52-221, Revision 01, dated May 6, 2002 (for Model DC-10-10, DC-10-10F, DC-10-15, DC-10-30, DC-10-30F (KC-10A and KDC-10), DC-10-40, DC-10-40F, MD-10-10F, and MD-10-30F airplanes); as applicable.

Condition 1—No Binding

(b) If there is no binding in the exterior emergency control handle mechanism during the operation required by paragraph (a) of this AD: Perform the action in either paragraph (b)(1) or (b)(2) of this AD in accordance with the Accomplishment Instructions of Boeing Service Bulletin MD11-52-046, Revision 02, dated October 8, 2002 (for Model MD-11 and MD-11F airplanes); or Boeing Service Bulletin DC10-52-221, Revision 01, dated May 6, 2002 (for Model DC-10-10, DC-10-10F, DC-10-15, DC-10-30, DC-10-30F (KC-10A and KDC-10), DC-10-40, DC-10-40F, MD-10-10F, and MD-10-30F airplanes); as applicable:

(1) Repeat the operation of the exterior emergency door handle of the forward passenger door thereafter at intervals not to exceed 6,000 flight hours or 18 months, whichever occurs later.

(2) Replace the six bearings in the exterior emergency control handle mechanism of the forward passenger door with bearings made from corrosion resistant materials. Accomplishment of the replacement constitutes terminating action for the requirements of this AD.

Condition 2—Binding

(c) If there is binding in the exterior emergency control handle mechanism during any operation required by paragraph (a) or (b)(1) of this AD: Before further flight, replace the six bearings in the exterior emergency control handle mechanism of the forward passenger door with bearings made from corrosion resistant materials in accordance with the Accomplishment Instructions of Boeing Service Bulletin MD11-52-046, Revision 02, dated October 8, 2002 (for Model MD-11 and MD-11F airplanes); or Boeing Service Bulletin DC10-52-221, Revision 01, dated May 6, 2002 (for Model DC-10-10, DC-10-10F, DC-10-15, DC-10-30, DC-10-30F (KC-10A and KDC-10), DC-10-40, DC-10-40F, MD-10-10F, and MD-10-30F airplanes); as applicable. Accomplishment of the replacement constitutes terminating action for the requirements of this AD.

Alternative Methods of Compliance

(d) In accordance with 14 CFR 39.19, the Manager, Los Angeles Aircraft Certification Office, FAA, is authorized to approve alternative methods of compliance for this AD.

Issued in Renton, Washington, on November 4, 2003.
Kalene C. Yanamura,
Acting Manager, Transport Airplane Directorate, Aircraft Certification Service.

[FR Doc. 03-28325 Filed 11-10-03; 8:45 am]

BILLING CODE 4910-13-P